DEPARTMENT OF COMMERCE

National Oceanic and Atmospheric Administration

50 CFR Part 660

[ID 071301D]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit (EFP); request for comments.

SUMMARY: NMFS announces receipt of an application for an EFP from the Pacific Marine Conservation Council (PMCC), State of California Department of Fish and Game (CDF&G), and Kenyon Hensel. The primary purpose of the EFP is to collect quantitative information to assess the selectivity of open access vertical hook-and-line and rod-and-reel gear used in the open access fishery off California. If awarded, the EFP would allow a small number of vessels to land groundfish species in excess of cumulative trip limits and to sell a portion of the yellowtail rockfish for profit, providing the vessel carries a State sponsored observer. This EFP proposal is intended to promote the objectives of the Pacific Coast Groundfish Fishery Management Plan (FMP) by providing data on gear selectivity and supporting a cooperative partnership to collect data to enhance management of the groundfish fishery.

DATES: Comments must be received by September 4, 2001.

ADDRESSES: ADDRESSES: Copies of the EFP application are available from Becky Renko, Northwest Region, NMFS, 7600 Sand Point Way N.E., Bldg. 1, Seattle, WA 98115-0070.

FOR FURTHER INFORMATION CONTACT: Becky Renko, 206-526-6140.

SUPPLEMENTARY INFORMATION: This action is authorized by the FMP and implementing regulations at 50 CFR 600.745 and 50 CFR 660.350.

On June 13, 2001, NMFS received a joint EFP application from PMCC, CDF&G, and Kenyon Hensel, a commercial fisher. The primary purpose of the exempted fishing activity is to provide quantitative information that can be used to assess the selectivity of open access vertical hook-and-line and rod-and-reel gear used in the open access fishery off California. In addition, fishing under the EFP is expected to provide valuable information on at-sea catch monitoring aboard small groundfish vessels.

Fishing for yellowtail rockfish, an abundant and commercially important groundfish species, is constrained by efforts to rebuild canary rockfish, an overfished species. This is because the two species are typically caught together. Open access fishers who target yellowtail rockfish believe that the fishery can be prosecuted with a much lower rockfish bycatch rate than is currently assumed.

Under the current open access trip limits for canary rockfish, fishers are allowed to land up to 50 lb (23 kg) per month of canary rockfish and up to 100 lb (45 kg) per month of yellowtail rockfish. Because the applicants believe that the current limits are too restraining to conduct an assessment of gear selectivity, they are requesting that participating vessels be allowed to land up to 1,000 lb (454 kg) yellowtail rockfish per month. Up to 500 lb (227 kg) of the yellowtail rockfish landed per month could be sold for profit by the vessel. Any monthly yellowtail landings greater than 500 lb,(227 kg) would be forfeited to the state of California. In addition, vessels would be required to retain all harvested rockfish species. Landings in excess of the applicable trip limits would be forfeited to the State of California.

If issued, this EFP would allow designated vessels to retain rockfish in excess of cumulative trip limits and would allow them to sell a portion of the yellowtail rockfish for profit. In addition to the 50-lb (23-kg) per month cumulative limit for canary rockfish, a canary sub-limit of 30 lb (14 kg) per trip would apply. The EFP would also provide for a state-run observer program in which observers collect: species composition and length/weight data, and information on fishing effort, gear configurations and fishing schedules. Without an EFP, groundfish regulations at 50 CFR 660.306 (f) restrict vessels from landing groundfish species or species groups in excess of trip limits.

Data collected during this project is expected to have a broader significance to the management of the groundfish fishery by providing: (1) Quantitative information necessary to evaluate the selectivity of vertical hook-and-line and rod-and reel gear used by open access fishers; (2) catch composition data; (3) length and weight data from harvested catch that is otherwise not available, (4) information on the full retention of rockfish catch; and (5) valuable information on at-sea catch monitoring aboard small groundfish vessels.

If the EFP is issued, approximately 1-5 vessels are expected to fish under the EFP using vertical hook-and-line and rod-and-reel gear, from August to October 2001 and again from June to October 2002. The proposed fishing would initially occur in nearshore waters, 19-55 fathoms, off Crescent City, CA, but may be expanded into other areas depending on the number of participating vessels and the final sampling plan. With the exception of rockfish, landings of all other groundfish will be within the applicable trip limit limits for those species.

In accordance with regulations, NMFS has determined that the proposal warrants further consideration and has consulted with the Council. The Council considered the EFP application during its June 11-5, 2001, meeting in Burlingame, CA and supported approval of the application. A copy of the application is available for review from NMFS (see ADDRESSES). Based on the results of this EFP, this action may lead to future rulemaking.

Authority: 16 U.S.C. 1801 et seq.

Dated: July 26, 2001.
Dean Swanson,
Acting Director, Office of Sustainable Fisheries, National Marine Fisheries Service.

[FR Doc. 01-19217 Filed 8-1-01; 8:45 am]

BILLING CODE 3510-22-S